DEPARTMENT OF THE INTERIOR

Bureau of Land Management

[BLM_OR_FRN_MO4500178664]

Public Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) will meet as follows.

DATES: The SMAC will participate in a field tour of sites within the Steens Mountain Cooperative Management and Protection Area, Thursday, June 13, 2024, from 8 a.m. to 5 p.m. Pacific time (PT), and a business meeting on Friday, June 14, from 8:30 a.m. to 3:30 p.m. PT.

ADDRESSES: The business meeting and the field tour will commence and conclude at the BLM's Burns District Office at 28910 Highway 20 West in Hines, Oregon. Virtual attendance through the Zoom for Government platform will be available for the Friday meeting. The final meeting agenda and Zoom link will be published on the SMAC's web page at least 10 days in advance at https://on.doi.gov/2PnZRcl.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The SMAC was established on August 14, 2001, pursuant to the Steens Mountain Cooperative Management and Protection Act of 2000 (Pub. L. 106-399) (Act). The SMAC provides recommendations to the BLM regarding new and unique approaches to management of the public lands within the boundaries of the Steens Mountain Cooperative Management and Protection Area, and recommends cooperative programs and incentives for landscape management that meets human needs and maintains and improves the ecological and economic integrity of the Cooperative Management and Protection Area.

A field tour to the Steens Mountain area is planned for June 13. Tour stops will vary depending on road, weather, and access conditions, but may include Riddle Brothers Ranch, Page Springs Weir, South Steens Herd Management Area or campground, or fuels treatment project sites. The public is welcome to attend but must provide their own transportation and personal amenities, such as appropriate clothing and footwear, food, and water. High-clearance, four-wheel drive vehicles are recommended.

The June 14 meeting agenda will include information sharing from the Designated Federal Officer and the Andrews/Steens Field Manager, a conversation about Inflation Reduction Act projects, a discussion on specific language in parts of the Steens Act, and a presentation from the Burns Paiute Tribe about their culture and aboriginal homelands in the area. Council members also have the opportunity to share information from their constituents or present research. Any other matters that may reasonably come before the SMAC may also be included at any time throughout the meeting.

The meeting is open to the public and a public comment period is scheduled for 1:30 p.m. PT on Friday, June 14. Depending on the number of people wishing to comment and the time available, the amount of time for oral comments may be limited. Written public comments may be sent to the BLM Burns District Office listed in the FOR FURTHER INFORMATION CONTACT section of this notice. All comments received at least one week prior to the meeting will be provided to the SMAC in advance of the meeting. The meeting may end early if all business items are completed ahead of schedule or may be extended if discussions warrant more time.

Please make requests in advance for sign language interpreter services, assistive listening devices, or other reasonable accommodations. We ask that you contact the person listed in the FOR FURTHER INFORMATION CONTACT section of this notice at least 7 business days prior to the meeting to give the BLM sufficient time to process your request. All reasonable accommodation requests are managed on a case-by-case basis.

Public Disclosure of Comments: Before including your address, phone number, email address, or other personal identifying information in your comments, please be aware that your entire comment—including your personal identifying information—may be made publicly available at any time. While you can ask us in your comment to withhold your personal identifying information from public review, we cannot guarantee that we will be able to do so.

(Authority: 5 U.S.C. ch. 10)

Jeffrey Rose,
District Manager.

[FR Doc. 2024-08888 Filed 4-24-24; 8:45 am]

BILLING CODE 4331-24-P